DEPARTMENT OF TRANSPORTATION

Federal Aviation Administration

14 CFR Part 71

[Docket No. FAA-2013-0950; Airspace Docket No. 13-AGL-34]

Amendment of Class D and Class E Airspace; Grand Forks, ND

AGENCY: Federal Aviation Administration (FAA), DOT.

ACTION: Final rule, technical amendment.

SUMMARY: This action amends Class D and Class E airspace within the Grand Forks, ND, area by updating the geographic coordinates for Grand Forks International Airport and Grand Forks Air Force Base (AFB). This action does not change the boundaries or operating requirements of the airspace.

DATES: Effective date: 0901 UTC, February 6, 2014. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone 817-321-7716.

SUPPLEMENTARY INFORMATION:

The Rule

This action amends Title 14 Code of Federal Regulations (14 CFR) Part 71 by adjusting the geographic coordinates, within the Class D and Class E airspace areas, of Grand Forks International Airport and Grand Forks AFB, Grand Forks, ND, to coincide with the FAA's aeronautical database. This is an administrative change and does not affect the boundaries, altitudes, or operating requirements of the airspace, therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Grand Forks, ND area.

List of Subjects in 14 CFR Part 71

Airspace, Incorporation by reference, Navigation (air)

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 5000 Class D Airspace.

* * * * *

AGL ND D Grand Forks, ND [Amended]

Grand Forks International Airport, ND

(Lat. 47°5′50″ N., long. 97°10′26″ W.)

That airspace extending upward from the surface to and including 3,300 feet MSL within a 4.2-mile radius of Grand Forks International Airport. This Class D airspace area is effective during the specific dates and times established in advance by a Notice to Airmen. The effective date and time will thereafter be continuously published in the Airport/Facility Directory.

AGL ND D Grand Forks AFB, ND [Amended]

Grand Forks, Grand Forks AFB, ND

(Lat. 47°57′41″ N., long. 97°24′03″ W.)

That airspace extending upward from the surface to and including 3,400 feet MSL within a 4.9-mile radius of Grand Forks AFB, and within 2.3 miles each side of the 174° bearing from the airport extending from the 4.9-mile radius to 5.6 miles south of the airport, excluding that airspace within the Grand Forks International Airport, ND, Class D airspace area. This Class D airspace area is effective during the specific dates and times established in advance by a Notice to Airmen. The effective date and time will thereafter be continuously published in the Airport/Facility Directory.

Paragraph 6002 Class E Airspace Areas Designated as a Surface Area.

* * * * *

AGL ND E2 Grand Forks, ND [Amended]

Grand Forks International Airport, ND

(Lat. 47°56′50″ N., long. 97°10′26″ W.)

Grand Forks VOR/DME

(Lat. 47°57′17″ N., long. 97°11′07″ W.)

Within a 4.2-mile radius of Grand Forks International Airport and within 2.5 miles each side of the 007° radial of the Grand Forks VOR/DME extending from the 4.2-mile radius of the airport to 7 miles north of the VOR/DME, and within 2.5 miles each side of the 173° radial of the Grand Forks VOR/DME extending from the 4.2-mile radius of the airport to 7 miles south of the VOR/DME. This Class E airspace area is effective during the specific dates and times established in advance by a Notice to Airmen. The effective date and time will thereafter be continuously published in the Airport/Facility Directory.

Paragraph 6004 Class E Airspace Areas Designated as an Extension to a Class D or Class E Surface Area.

* * * * *

AGL ND E4 Grand Forks, ND [Amended]

Grand Forks International Airport, ND

(Lat. 47°56′50″ N., long. 97°10′26″ W.)

Grand Forks VOR/DME

(Lat. 47°57′17″ N., long. 97°11′07″ W.)

That airspace extending upward from the surface within 2.5 miles each side of the 007° radial of the Grand Forks VOR/DME extending from the 4.2-mile radius of the airport to 7 miles north of the VOR/DME, and within 2.5 miles each side of the 173° radial of the Grand Forks VOR/DME extending from the 4.2-mile radius of the airport to 7 miles south of the VOR/DME. This Class E airspace area is effective during the specific dates and times established in advance by a Notice to Airmen. The effective date and time will thereafter be continuously published in the Airport/Facility Directory.

Paragraph 6005 Class E Airspace Areas Extending Upward from 700 feet or More Above the Surface of the Earth.

* * * * *

AGL ND E5 Grand Forks, ND [Amended]

Grand Forks International Airport, ND

(Lat. 47°56′50″ N., long. 97°10′26″ W.)

Grand Forks, Grand Forks AFB, ND

(Lat. 47°57′41″ N., long. 97°24′03″ W.)

That airspace extending upward from 700 feet above the surface within a 7-mile radius of Grand Forks International Airport, and within a 7-mile radius of Grand Forks AFB, and within 3 miles each side of the Grand Forks International Airport ILS Localizer north course extending from the 7-mile radius to 10 miles north of the airport, and that airspace extending upward from 1,200 feet above the surface within a 34-mile radius of Grand Forks AFB, within the state of North Dakota.

Issued in Fort Worth, Texas, on November 25, 2013.
David P. Medina,
Manager, Operations Support Group ATO Central Service Center.

[FR Doc. 2013-29222 Filed 12-9-13; 8:45 am]

BILLING CODE 4910-13-P